DEPARTMENT OF COMMERCE

International Trade Administration

(A-489-807)

Certain Steel Concrete Reinforcing Bars From Turkey; Notice of Extension of Time Limits for Preliminary Results of Antidumping Duty Administrative Review

AGENCY: Import Administration, International Trade Administration, Department of Commerce.

EFFECTIVE DATE: November 7, 2008.

FOR FURTHER INFORMATION CONTACT: Elizabeth Eastwood, AD/CVD Operations, Office 2, Import Administration, International Trade Administration, U.S. Department of Commerce, 14th Street and Constitution Avenue, NW, Washington, DC 20230; telephone: (202) 482-3874.

SUPPLEMENTARY INFORMATION:

Background

On June 4, 2008, the Department of Commerce (the Department) published a notice of initiation of administrative review of the antidumping duty order on certain steel concrete reinforcing bars (rebar) from Turkey. See Initiation of Antidumping and Countervailing Duty Administrative Reviews and Requests for Revocation in Part, 73 FR 31813 (June 4, 2008). The period of review is April 1, 2007, through March 31, 2008, and the preliminary results are currently due no later than December 31, 2008. The review covers seven producers/exporters of the subject merchandise to the United States.

Extension of Time Limit for Preliminary Results

Pursuant to section 751(a)(3)(A) of Tariff Act of 1930, as amended (the Act), the Department shall make a preliminary determination in an administrative review of an antidumping order within 245 days after the last day of the anniversary month of the date of publication of the order. Section 751(a)(3)(A) of the Act further provides, however, that the Department may extend the 245-day period to 365 days if it determines it is not practicable to complete the review within the foregoing time period. We determine that it is not practicable to complete this administrative review within the time limits mandated by section 751(a)(3)(A) of the Act. Although the Department has received the initial questionnaire responses from most of the respondents, upon review of the questionnaire responses, the Department believes it needs to issue supplemental questionnaires to clarify responses on the record. Preparing these supplemental questionnaires and analyzing the respondents' responses requires additional time. Therefore, we have fully extended the deadline for completing the preliminary results until April 30, 2009. The deadline for the final results of the review continues to be 120 days after the publication of the preliminary results.

This extension notice is published in accordance with sections 751(a)(3)(A) and 777(i) of the Act.

Dated: November 3, 2008.
Stephen J. Claeys,
Deputy Assistant Secretary for Import Administration.

[FR Doc. E8-26624 Filed 11-6-08; 8:45 am]

BILLING CODE 3510-DS-S